DEPARTMENT OF THE INTERIOR

National Park Service

[N6826; NPS-WASO-NAGPRA-NPS0041687; PPWOCRADN0-PCU00RP14.R50000]

Notice of Inventory Completion: Museum of the Cherokee People, Cherokee, NC

AGENCY: National Park Service, Interior.

ACTION: Notice.

SUMMARY: In accordance with the Native American Graves Protection and Repatriation Act (NAGPRA), the Museum of the Cherokee People (MotCP) has completed an inventory of human remains and associated funerary objects and has determined that there is a cultural affiliation between the human remains and associated funerary objects and Indian Tribes or Native Hawaiian organizations in this notice.

DATES: Repatriation of the human remains and associated funerary objects in this notice may occur on or after February 6, 2026.

ADDRESSES: Send written requests for repatriation of the human remains and associated funerary objects in this notice to Evan Mathis, Museum of the Cherokee People, P.O. Box 1599, 589 Tsali Blvd., Cherokee, NC 28719, email evan.mathis@motcp.org.

SUPPLEMENTARY INFORMATION: This notice is published as part of the National Park Service's administrative responsibilities under NAGPRA. The determinations in this notice are the sole responsibility of the Museum of the Cherokee People, and additional information on the determinations in this notice, including the results of consultation, can be found in its inventory or related records. The National Park Service is not responsible for the determinations in this notice.

Abstract of Information Available

Human ancestral remains representing, at least, one individual has been identified from an unknown archaeological site, accessioned as 2011.283. Four lots of funerary objects are present, including one lot of animal bones/bone fragments, one lot of ceramic pot sherds, one lot of charcoal, and one lot of lithics. After completing the consultation process with federally recognized Tribal Nations, this site is culturally affiliated with the Cherokee Nation, the Eastern Band of Cherokee Indians, the Seminole Tribe of Florida (based on Southeastern iconography found on pottery sherds), and the United Keetoowah Band of Cherokee Indians. It is unknown when or by whom the individuals were removed, but the accession number indicates they were likely transferred to the Museum of the Cherokee People in 2011, where they have been housed since that time. To our knowledge, no hazardous substances were used to treat any of the human ancestral remains.

Human ancestral remains representing, at least, one individual has been identified from an unknown archaeological site, accessioned as 2011.392. Three lots of funerary objects were commingled with this individual, including one lot of ceramic pot sherds, one lot of lithics, and one lot of soil. After completing the consultation process with federally recognized Tribal Nations, this site is culturally affiliated with the Cherokee Nation, the Eastern Band of Cherokee Indians, the Seminole Tribe of Florida (based on Southeastern iconography found on pottery sherds), and the United Keetoowah Band of Cherokee Indians. It is unknown when or by whom the individuals were removed, but the accession number indicates they were likely transferred to the Museum of the Cherokee People in 2011, where they have been housed since that time. To our knowledge, no hazardous substances were used to treat any of the human ancestral remains.

Human ancestral remains representing, at least, one individual has been identified from an unknown archaeological site, accessioned as 2011.360. One lot of funerary objects was commingled with this individual consisting of ceramic pot sherds. After completing the consultation process with federally recognized Tribal Nations, this site is culturally affiliated with the Cherokee Nation, the Eastern Band of Cherokee Indians, the Seminole Tribe of Florida (based on Southeastern iconography found on pottery sherds), and the United Keetoowah Band of Cherokee Indians. It is unknown when or by whom the individuals were removed, but the accession number indicates they were likely transferred to the Museum of the Cherokee People in 2011, where they have been housed since that time. To our knowledge, no hazardous substances were used to treat any of the human ancestral remains.

Human ancestral remains representing, at least, one individual has been identified from an unknown archaeological site, accessioned as 2011.391. Four lots of funerary objects were commingled with this individual, including one lot of ceramic pot sherds, one lot of lithics, one lot of animal bones/bones fragments, and one lot of historic material. After completing the consultation process with federally recognized Tribal Nations, this site is culturally affiliated with the Cherokee Nation, the Eastern Band of Cherokee Indians, the Seminole Tribe of Florida (based on Southeastern iconography found on pottery sherds), and the United Keetoowah Band of Cherokee Indians. It is unknown when or by whom the individuals were removed, but the accession number indicates they were likely transferred to the Museum of the Cherokee People in 2011, where they have been housed since that time. To our knowledge, no hazardous substances were used to treat any of the human ancestral remains.

Cultural Affiliation

Based on the information available and the results of consultation, cultural affiliation is clearly identified by the information available about the human remains and associated funerary objects described in this notice.

Determinations

The Museum of the Cherokee People has determined that:

• The human remains described in this notice represent the physical remains of four individuals of Native American ancestry.

• The 12 lots of objects described in this notice are reasonably believed to have been placed intentionally with or near individual human remains at the time of death or later as part of the death rite or ceremony.

• There is a connection between the human remains and associated funerary objects described in this notice and the Cherokee Nation; Eastern Band of Cherokee Indians; Seminole Tribe of Florida; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 6, 2026. If competing requests for repatriation are received, the Museum of the Cherokee People must determine the most appropriate requestor prior to repatriation. Requests for joint repatriation of the human remains and associated funerary objects are considered a single request and not competing requests. The Museum of the Cherokee People is responsible for sending a copy of this notice to the Indian Tribes and Native Hawaiian organizations identified in this notice and any other consulting parties.

Authority: Native American Graves Protection and Repatriation Act, 25 U.S.C. 3003, and the implementing regulations, 43 CFR 10.10.

Dated: December 18, 2025.
Melanie O'Brien,
Manager, National NAGPRA Program.

[FR Doc. 2026-00057 Filed 1-6-26; 8:45 am]

BILLING CODE 4312-52-P